DEPARTMENT OF TRANSPORTATION

Federal Aviation Administration

RTCA; Joint RTCA Special Committee 181/EUROCAE Working Group 13 Standards of Navigation Performance

Pursuant to section 10(a)(2) of the Federal Advisory Committee Act (Pub. L. 92-463, 5 U.S.C., Appendix 2), notice is hereby given for a joint Special Committee 181/EUROCAE Working Group 13 meeting to be held September 6-8, 2000, starting at 9:00 a.m. The meeting will be held at the Transport Canada, 330 Sparks Street, Ottawa, Canada.

The agenda will include the following: September 6 & 7: (1) Working Groups (WG) 1 and 4 to meet separately. September 8: 9 a.m.-10 a.m. (2) Plenary Session; (3) Introductory Remarks: (4) Working Group Reports; (5) Discussion/Review of Special Committee 181 Terms of Reference: (a) Cold Temperature Addendum to DO-236A; (b) WG-4 follow-on activity; (6) New Business; (7) Date and Location of Next Meeting; (8) Closing; 10:00-4:00 p.m. Working Groups continue to meet.

Attendance is open to the interested public but limited to space availability. With the approval of the chairman, members of the public may present oral statements at the meeting. Persons wishing to present statements or obtain information should contact the RTCA Secretariat, 1140 connecticut Avenue, NW., Suite 1020, Washington, DC 20036; (202) 833-9339 (phone); (202) 833-9434 (fax); or http://www.rtca.org (web site); or the on-site contact, Mr. Jim Gregory, at (613) 991-9923 (phone), (613) 998-7416 (fax), gregojw@tc.gc.ca (email). Members of the public may present a written statement to the committee at any time.

Issued in Washington, DC, on August 21, 2000.
Janice L. Peters,
Designated Official.

[FR Doc. 00-21821 Filed 8-24-00; 8:45 am]

BILLING CODE 4910-13-M